SECURITIES AND EXCHANGE COMMISSION

[File No. 500-1]

Voice One Corp.; Order of Suspension of Trading

June 15, 2011.

It appears to the Securities and Exchange Commission that there is a lack of current and accurate information concerning the securities of Voice One Corp. because of questions regarding the accuracy of assertions by Voice One Corp., and by others, in public statements concerning, among other things: (1) The company's management and (2) financing provided by related parties.

The Commission is of the opinion that the public interest and the protection of investors require a suspension of trading in the securities of Voice One Corp.

Therefore, it is ordered, pursuant to Section 12(k) of the Securities Exchange Act of 1934, that trading in the securities of Voice One Corp. is suspended for the period from 9:30 a.m. EDT on June 15, 2011, through 11:59 p.m. EDT, on June 28, 2011.

By the Commission.
Jill M. Peterson,
Assistant Secretary.

[FR Doc. 2011-15196 Filed 6-15-11; 4:15 pm]

BILLING CODE 8011-01-P